DEPARTMENT OF COMMERCE

National Oceanic and Atmospheric Administration

[I.D. 021100B]

Northwest Region Logbook Family of Forms

AGENCY: National Oceanic and Atmospheric Administration

ACTION: Proposed Collection; comments request

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 17, 2000.

ADDRESSES: Direct all written comments to Linda Engelmeier, Departmental Forms Clearance Officer, Department of Commerce, Room 5327, 14th and Constitution Avenue, NW, Washington DC 20230 (or via Internet at LEngelme@doc.gov).

FOR FURTHER INFORMATION CONTACT: Requests for additional information or copies of the information collection instrument(s) and instructions should be directed to William L. Robinson, NMFS, 7600 Sand Point Way NE, Seattle WA 98112, 206-526-6140.

SUPPLEMENTARY INFORMATION:

I. Abstract

These data collections deal with Federal reporting requirements for processing vessels and affect participants in the groundfish fishery off Washington, Oregon, and California (WOC). The data collections involve: (1) vessel start/stop reports; (2) catch or receipt reports and logbooks; and (3) product transfer/offloading reports and logbooks. The data collections apply to groundfish processing vessels over 125′ (38.5 meters) in length and catcher vessels delivering to them.

Vessel reports indicate when a vessel has started and stopped operations, and are needed to ensure catch/receipt reports have been received, for observer deployment, and for monitoring the fishery.

Logbooks are the basis for reports submitted to NMFS. The logbooks for processing vessels are used to keep daily and cumulative totals of the catch (or fish received from a catcher vessel), species, disposition, and numbers and species of prohibited species (salmon, halibut, Dungeness crab). Reports of species and amounts caught are submitted on a weekly or daily basis, depending on the duration of the season. Logbooks also are kept by fishing vessels to record specific haul or set information. Logbooks also are used to record transfers or offloading of fish or fish products which facilitates enforcement.

II. Method of Collection

These are written data collections that are prepared and submitted by the vessel owner or operator to the National Marine Fisheries Service, Northwest Regional Office, by mail, fax, electronic mail, or in person.

III. Data

OMB Number: 0648-0271.

Form Number: None.

Type of Review: Regular Submission.

Affected Public: Business or other for-profit (owners and operators of vessels that fish for or process groundfish in ocean waters 0-200 nautical miles off Washington, Oregon, and California).

Estimated Number of Respondents: 86.

Estimated Time Per Response: The expected daily average for vessel start/stop reports is about 1.25 minutes; for entering information in catch/receipt logbooks is 13 minutes for catcher vessels and motherships and 26 minutes for catcher-processors; for weekly reports of fish caught or received is 4.3 minutes per day; for product transfer logs is 20 minutes.

Estimated Total Annual Burden Hours: 1,724.

Estimated Total Annual Cost to Public: $10,306 (averaging about $422 per vessel).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 9, 2000.
Linda Engelmeier,
Departmental Forms Clearance Officer, Office of the Chief Information Officer.

[FR Doc. 00-3858 Filed 2-16-00; 8:45 am]

BILLING CODE 3510-22-F